DEPARTMENT OF TRANSPORTATION

Federal Motor Carrier Safety Administration

[Docket No. FMCSA-2010-0203]

Qualification of Drivers; Exemption Applications; Epilepsy and Seizure Disorders

AGENCY: Federal Motor Carrier Safety Administration (FMCSA), DOT.

ACTION: Notice of applications for exemption, request for comments.

SUMMARY: FMCSA announces receipt of applications from seventeen individuals for an exemption from the prohibition against persons with a clinical diagnosis of epilepsy (or any other condition which is likely to cause a loss of consciousness or any loss of ability to operate a commercial motor vehicle (CMV)) from operating CMVs in interstate commerce. If granted, the exemptions would enable these individuals with seizure disorders to operate CMVs in interstate commerce.

DATES: Comments must be received on or before August 2, 2010.

ADDRESSES: You may submit comments bearing the Federal Docket Management System (FDMS) Docket No. FMCSA-2010-0203 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket No. for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477-78; Apr. 11, 2000). This information is also available at http://www.regulations.gov.

FOR FURTHER INFORMATION CONTACT: Dr. Mary D. Gunnels, Director, Medical Programs, (202) 366-4001, fmcsamedical@dot.gov, FMCSA, Room W64-224, Department of Transportation, 1200 New Jersey Avenue, SE., Washington, DC 20590-0001. Office hours are from 8:30 a.m. to 5 p.m., Monday through Friday, except Federal holidays.

SUPPLEMENTARY INFORMATION:

Background

Under 49 U.S.C. 31315 and 31136(e), FMCSA may grant an exemption for a 2-year period if it finds “such exemption would likely achieve a level of safety that is equivalent to, or greater than, the level that would be achieved absent such exemption.” The statutes also allow the Agency to renew exemptions at the end of the 2-year period. The seventeen individuals listed in this notice have recently requested an exemption from the epilepsy prohibition in 49 CFR 391.41(b)(8), which applies to drivers who operate CMVs as defined in 49 CFR 390.5, in interstate commerce. Section 391.41(b)(8) states that a person is physically qualified to drive a commercial motor vehicle if that person has no established medical history or clinical diagnosis of epilepsy or any other condition which is likely to cause the loss of consciousness, or any loss of ability to control a commercial motor vehicle.

FMCSA provides medical advisory criteria for use by medical examiners in determining whether drivers with certain medical conditions should be certified to operate commercial motor vehicles in intrastate commerce. The advisory criteria indicates that if an individual has had a sudden episode of a nonepileptic seizure or loss of consciousness of unknown cause which did not require anti-seizure medication, the decision whether that person's condition is likely to cause the loss of consciousness or loss of ability to control a commercial motor vehicle should be made on an individual basis by the medical examiner in consultation with the treating physician. Before certification is considered, it is suggested that a 6-month waiting period elapse from the time of the episode. Following the waiting period, it is suggested that the individual have a complete neurological examination. If the results of the examination are negative and antiseizure medication is not required, then the driver may be qualified.

In those individual cases where a driver had a seizure or an episode of loss of consciousness that resulted from a known medical condition (e.g., drug reaction, high temperature, acute infectious disease, dehydration, or acute metabolic disturbance), certification should be deferred until the driver has fully recovered from that condition, has no existing residual complications, and is not taking anti-seizure medication.

Drivers with a history of epilepsy/seizures off anti-seizure medication and seizure-free for 10 years may be qualified to operate a CMV in interstate commerce. Interstate drivers with a history of a single unprovoked seizure may be qualified to drive a CMV in interstate commerce if seizure-free and off anti-seizure medication for a 5-year period or more.

Summary of Applications

Bruce B. Baum

Mr. Baum is a CMV driver in the state of New Mexico. He experienced a single episode of a seizure in 1999, and is currently taking anti-seizure medication Dilantin. His neurologist states that he has been seizure-free for five years. Mr. Baum believes that he would achieve a level of safety that is equivalent to the level of safety obtained by complying with the regulation because he has remained seizure free and compliant on medication since 1999.

Todd A. Davis

Mr. Davis is a CMV driver in the state of Wisconsin. He experienced a single episode of a seizure in 2007, and is currently taking anti-seizure medication Lamictal. His neurologist certified that he has been seizure-free for three years. Mr. Davis believes that he would achieve a level of safety that is equivalent to the level of safety obtained by complying with the regulation because he has remained seizure free and compliant on medication since 2007.

James Dyer

Mr. Dyer is a CMV driver in the state of Texas. He experienced a single seizure like event in 2008 and was placed on anti-seizure medication but discontinued use in 2009. His neurologist states that he is stable, has a low risk of future seizures, and has been seizure free for one year and 6 months. Mr. Dyer believes that he would achieve a level of safety that is equivalent to the level of safety obtained by complying with the regulation because he experienced a “seizure-like” event, discontinued use of anti-seizure medication, and has remained seizure-free for years.

Richard R. Gurda

Mr. Gurda is a CMV driver in the state of Wisconsin. He experienced a single seizure event in 2005, and is currently taking anti-seizure medication Lamictal. His neurologist certified that he has been seizure-free for four years since the single event and remains stable on his current dose of medication. Mr. Gurda believes that he would achieve a level of safety that is equivalent to the level of safety obtained by complying with the regulation because he has maintained good medication control and has remained seizure-free for four years. Mr. Gurda currently has a CDL exemption issued by the state to operate municipal/government vehicle in intrastate.

Christian E. Henry

Mr. Henry is a CMV driver in the state of Pennsylvania. He has a history of seizures during medical procedures when he was a juvenile. His doctor states that he has been seizure-free for nine years on his current dose of medication and is stable to drive. Mr. Henry believes that he would achieve a level of safety that is equivalent to the level of safety obtained by complying with the regulation because he has remained seizure-free since 1998, has a safe driving record, and he's compliant with his medication.

Denton L. Hineline

Mr. Hineline is a CMV driver in the state of Florida. He has a history of nocturnal seizures and was diagnosed with epilepsy in 1978, and is currently taking anti-seizure medication Dilantin. His doctor certified that he has been seizure-free for twenty-nine years on his current dose of medication. Mr. Hineline believes that he would achieve a level of safety that is equivalent to the level of safety obtained by complying with the regulation because he has remained seizure-free since 1979 and he's compliant with his medication.

Henrietta M. Ketcham

Ms. Ketcham is a CMV driver in the state of New York. She has a history of seizure disorder since 1992. She experienced her last seizure in 2001, and is currently taking anti-seizure medication Topomax. Her doctor states that she has been seizure-free for seven years on her current dose of medication and remains stable. Ms. Ketcham believes that she would achieve a level of safety that is equivalent to the level of safety obtained by complying with the regulation because she has maintained good medication control and has remained seizure-free for seven years.

Danny Lingle

Mr. Lingle is a CMV driver in the state of Iowa. He states that he had a stroke from a brain hemorrhage and not a seizure in 2006. He did not take an anti-seizure medication after the event. He has not experienced another episode. His neurologist states that he is safe to drive without restrictions. Mr. Lingle believes that he would achieve a level of safety that is equivalent to the level of safety obtained by complying with the regulation because he did not experience a seizure and is a safe driver.

James C. Loiodice

Mr. Loiodice is a CMV driver in the state of New York. He experienced an isolated seizure episode in 2001, and is currently taking anti-seizure medication Carbatrol. His neurologist certified that he has been seizure-free for 8 years, is well controlled and has an extremely low risk of a breakthrough seizure. Mr. Loiodice believes that he would achieve a level of safety that is equivalent to the level of safety obtained by complying with the regulation because he has remained seizure-free on anti-seizure medication for eight years.

Leo J. Lombardio

Mr. Lombardio is a CMV driver in the state of California. He experienced a single seizure episode in 2007, and is currently taking anti-seizure medication Phenytoin. His doctor states that he has been stable with no seizure activity on medication since 2007. His medication was changed from Keppra to Phenytoin in 2008 due to side effects. He believes that he would achieve a level of safety that is equivalent to the level of safety obtained by complying with the regulation because he continues to take his medication as directed by his doctor and has remained seizure free.

Mike D. Rafalski

Mr. Rafalski is a CMV driver in the state of Michigan. He was diagnosed with epilepsy in 2002, and is currently taking anti-seizure medications Keppra and Trileptal. He experienced his last seizure in 2006. Mr. Rafalski believes that he would achieve a level of safety that is equivalent to the level of safety obtained by complying with the regulation because he has remained seizure-free on anti-seizure medication for four years.

Phillip S. Sage

Mr. Sage is a CMV driver in the state of Michigan. He developed seizures after a motor vehicle accident in 2007. He experienced his last seizure in 2008, and was taking anti-seizure medication Keppra. He has since discontinued anti-seizure medication in 2008. He believes that he would achieve a level of safety that is equivalent to the level of safety obtained by complying with the regulation because he has a history of safe driving and has discontinued the medication and has remained seizure-free.

Floyd R. Strader Jr.

Mr. Strader is a CMV driver in the state of North Carolina. He was diagnosed with a childhood seizure disorder. His last seizure was in 2000, he was thirteen years old at this time. He discontinued the use of anti-seizure medication in 2001 when he was fourteen. Mr. Strader experienced a motor vehicle collision which resulted in head-trauma. He did not experience a seizure; however, he was treated for migraine headaches. Mr. Strader believes that he would achieve a level of safety that is equivalent to the level of safety obtained by complying with the regulation because he has remained seizure-free for nine years and off anti-seizure medication for eight years.

Joseph A. Suhy

Mr. Suhy is CMV driver in the state of Pennsylvania. He was diagnosed with a seizure disorder after a head injury in 1986. His last seizure was in 1991 at the time he was taking Tegretol. Subsequently his anti-seizure medication was changed to Valproic acid and he remains on this medication to date. His doctor states that he has been seizure-free for seventeen years. Mr. Suhy believes that he would achieve a level of safety that is equivalent to the level of safety obtained by complying with the regulation because he has remained seizure free and is compliant with treatment.

Paul C. Warren

Mr. Warren is a CMV driver in the state of Maine. He was diagnosed with epilepsy in 2000. He experienced his last seizure in 2002, and is currently taking anti-seizure medication Keppra. His neurologist states that he has been seizure free for seven years and is compliant with treatment. Mr. Warren believes that he would achieve a level of safety that is equivalent to the level of safety obtained by complying with the regulation because he has a history of safe driving in CMVs and has remained seizure free for seven years.

Jeffery P. Weis

Mr. Weis is a CMV driver in the state of Illinois. He experienced seizures in 2006 caused by metabolic derangement related to stress and alcohol use. He was placed on Dilantin but discontinued use per doctor's orders after 6 months. He has remained seizure and medication free for three years. Mr. Weis believes that he would achieve a level of safety that is equivalent to the level of safety obtained by complying with the regulation because he has a history of safe driving, decreased alcohol consumption and has discontinued anti-seizure medication and has remained seizure-free.

Brian H. Wetzel

Mr. Wetzel is a CMV driver in the state of Missouri. He was diagnosed with a seizure disorder after brain surgery in 1976. He experienced his last seizure in 1995, and is currently taking anti-seizure medication Carbamazepine. His neurologist's medical opinion is that he has been seizure free for fourteen years and is safe to drive. Mr. Wetzel believes that he would achieve a level of safety that is equivalent to the level of safety obtained by complying with the regulation because he has been seizure free for fourteen years and is compliant with treatment.

Request for Comments

In accordance with 49 U.S.C. 31315 and 31136(e), FMCSA requests public comment from all interested persons on the exemption application described in this notice. We will consider all comments received before the close of business on the closing date indicated earlier in the notice.

Issued on: June 25, 2010.
Larry W. Minor,
Associate Administrator for Policy and Program Development.

[FR Doc. 2010-16216 Filed 7-1-10; 8:45 am]

BILLING CODE P